DEPARTMENT OF THE TREASURY

Internal Revenue Service

Pacific-Northwest Citizen Advocacy Panel; Meeting

ACTION: Notice.

SUMMARY: An open meeting of the Pacific-Northwest Citizen Advocacy Panel will be held in Portland, Oregon.

DATES: The meeting will be held Friday May 18, 2001 and Saturday May 19, 2001.

FOR FURTHER INFORMATION CONTACT: Judi L. Nicholas at 1-888-912-1227 or 206-220-6096.

SUPPLEMENTARY INFORMATION: Notice is hereby given pursuant to Section 10(a)(2) of the Federal Advisory Committee Act, 5 U.S.C. App. (1988) that an open meeting of the Citizen Advocacy Panel will be held Friday May 18, 2001, 9:00 a.m. to 4:30 pm at the Edith Green/Wendall Wyatt Federal Building, located at 1220 SW Third Avenue, Room 611, Portland, OR 97204; and Saturday, May 19, 2001, 9:00 am to Noon at the World Forestry Center located at 433 SW Canyon RD., Portland, OR, 97221. The public is invited to make oral comments. Individual comments will be limited to 10 minutes. If you would like to have the CAP consider a written statement, please call 1-888-912-1227 or 206-220-6096, or write Judi L. Nicholas, CAP Office, 915 2nd Avenue, Room 442, Seattle, WA 98174. Due to limited conference space, notification of intent to attend the meeting must be made with Judi L. Nicholas. Ms. Nicholas can be reached at 1-888-912-1227 or 206-220-6096.

The Agenda will include the following: various IRS issue updates and reports by the CAP sub-groups.

Note: Last minute changes to the agenda are possible and could prevent effective advance notice.

Dated: April 11, 2001.
John J. Mannion,
Director, Program Planning and Quality.

[FR Doc. 01-9525 Filed 4-17-01; 8:45 am]

BILLING CODE 4830-01-P